Proclamation 8137 of April 30, 2007

Loyalty Day, 2007

By the President of the United States of America

A Proclamation

America was founded by patriots who risked their lives to bring freedom to our Nation. Today, our citizens are grateful for our Founding Fathers and confident in the principles that lead us forward. On Loyalty Day, we celebrate the blessings of freedom and remember our responsibility to continue our legacy of liberty.

Our Nation has never been united simply by blood, birth, or soil, but instead has always been united by the ideals that move us beyond our background and teach us what it means to be Americans. We believe deeply in freedom and self-government, values embodied in our cherished documents and defended by our troops over the course of generations. Our citizens hold the truths of our founding close to their hearts and demonstrate their loyalty in countless ways. We are inspired by the patriotic service of the men and women who wear our Nation's uniform with honor and decency. The military spouses and families who stand by their loved ones represent the best of the American spirit, and we are profoundly grateful for their sacrifice. Our country is strengthened by the millions of volunteers who show deep compassion toward their neighbors in need. All citizens can express their loyalty to the United States by flying the flag, participating in our democracy, and learning more about our country's grand story of courage and simple dream of dignity.

The Congress, by Public Law 85-529, as amended, has designated May 1 of each year as “Loyalty Day.” This Loyalty Day, and throughout the year, I ask all Americans to join me in reaffirming our allegiance to our Nation.

NOW, THEREFORE, I, GEORGE W. BUSH, President of the United States of America, do hereby proclaim May 1, 2007, as Loyalty Day. I call upon the people of the United States to participate in this national observance and to display the flag of the United States on Loyalty Day as a symbol of pride in our Nation.

IN WITNESS WHEREOF, I have hereunto set my hand this thirtieth day of April, in the year of our Lord two thousand seven, and of the Independence of the United States of America the two hundred and thirty-first.

[FR Doc. 07-2218

Filed 5-2-07; 8:54 am]

Billing code 3195-01-P